FEDERAL COMMUNICATIONS COMMISSION

47 CFR Part 73

[DA 06-1759; MB Docket No. 05-9; RM-11141; RM-11242; MB Docket No. 05-10; RM-11140; RM-11241; RM-11279]

Radio Broadcasting Services; Albany, Arlington, Athena, Diamond Lake, and Eugene, Oregon, Goldendale, Washington, Hermiston, Ione, La Grande, Lebanon, Monument; Paisley, Prairie City, Prineville, and Sisters, The Dalles, and Tualatin, Oregon, Walla Walla, Washington and Weiser, Idaho

AGENCY: Federal Communications Commission.

ACTION: Final rule.

SUMMARY: In accordance with Section 1.420(j) of the Commission's Rules, this document grants a Settlement Agreement filed by Two Hearts Communications, LLC and SSR Communications, Inc., requesting the allotment of Channel 280C1 at Monument, Oregon, as its first local service and Channel 260C at Prairie City, Oregon, as its first local service. This document also substitutes Channel *247C1 for Channel *280C1 at Weiser, Idaho and allots Channel 267C1 at Prineville, Oregon, as its third FM commercial broadcast service. The reference coordinates for Channel 280C1 at Monument are 44-49-09 NL and 119-25-11 WL. The reference coordinates for Channel 260C at Prairie City are 44-17-47 NL and 118-44-22 WL. This site is located 18.5 kilometers (11.5 miles) south of Prairie City. The reference coordinates for Channel *247C1 at Weiser are 44-20-39 NL and 117-07-14 WL. This site is located 16 kilometers (9.9 miles) northwest of Weiser. The reference coordinates for Channel 267C1 at Prineville are 44-20-48 NL and 120-22-29 WL. This site is located 37.6 kilometers (23.4 miles) east of Prineville. See SUPPLEMENTARY INFORMATION.

DATES: Effective October 20, 2006.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket Nos. 05-9 and 05-10, adopted August 31, 2006, and released September 5, 2006. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC 20554, telephone 1-800-378-3160 or http.//www.BCPIWEB.com. The Commission will send a copy of this Report and Order in a report to be sent to Congress and the Government Accountability Office pursuant to the Congressional Review Act, see 5 U.S.C. 801(a)(1)(A).

Additionally, this document grants a counterproposal filed by Two Hearts Communications, LLC, by substituting Channel 264C2 for Channel 264C3 at Walla Walla, Washington, reallotting Channel 264C2 from Walla Walla, Washington to Athena, Oregon, as the community's first local service and modifying the Station KHSS license to reflect to this change. The reference coordinates for Channel 264C2 at Athena are 45-47-41 NL and 118-10-06 WL. This site is located 25.2 kilometers (15.7 miles) east of Athena. To accommodate the Athena reallotment, this document also substitutes Channel 261A for Channel 263A at Hermiston, Oregon and modifies the Station KQFM license accordingly; substitutes Channel 225C1 for Channel 260C1 at La Grande, Oregon and modifies the Station KWRL license accordingly; substitutes Channel 295C2 for vacant Channel 261C2 at Arlington, Oregon; and allots Channel 258A at Ione, Oregon, as its first local service. Channel 261A can be allotted to Hermiston at Station KQFM's current licensed site, 45-51-57 NL and 119-18-38 WL. This site is located 3.1 kilometers (1.9 miles) northwest of Hermiston. Channel 225C1 can be allotted to La Grande at Station KWRL's current licensed site, 45-12-59 NL and 118-00-00 WL. This site is located 14.3 kilometers (8.9 miles) southeast of La Grande. The reference coordinates for Channel 295C2 at Arlington are 45-33-52 NL and 120-19-00 WL. The site is located 19.9 kilometers (12.3 miles) southwest of Arlington. The reference coordinates for Channel 258A at Ione are 45-30-12 NL and 119-49-36 WL.

This document also dismisses the counterproposal jointly filed by Portland Broadcasting, L.L.C, licensee of Station KXPC-FM, Lebanon, Oregon, Columbia Gorge Broadcasters, Inc., licensee of Station KACI-FM, The Dalles, Oregon, M.S.W. Communications, LLC, licensee of Station KMSW(FM), The Dalles, Oregon, and Extra Mile Media, Inc., licensee of Station KHPE(FM), Albany, Oregon, requesting the substitution of Channel 250C2 for Channel 249C2 at The Dalles, Oregon, reallotment of Channel 250C2 from The Dalles to Tualatin, Oregon, as the community's first local service and modification of the Station KACI-FM license accordingly; substitution of Channel 300C for Channel 250C at Eugene, Oregon and modification of the Station KNRQ-FM license accordingly; substitution of Channel 279C for Channel 300C at Albany and modification of the Station KHPE license accordingly; substitution of Channel 251A for vacant Channel 299A at Diamond Lake, Oregon; reallotment of Channel 279C from Lebanon to Paisley, Oregon, as the community's first local service and a first local aural broadcast service to 2,287 persons, and modification of the Station KXPC-FM license accordingly; substitution of Channel 272C2 for Channel 224C3 at The Dalles, Oregon and modification of the FM Station KSMW license accordingly; and substitution of Channel 300C2 for Channel 272C2 at Goldendale, Washington and modification of the FM Station KYYT license accordingly.

List of Subjects in 47 CFR Part 73

Radio, Radio broadcasting.

As stated in the preamble, the Federal Communications Commission amends 47 CFR Part 73 as follows:

PART 73—RADIO BROADCAST SERVICES

1. The authority citation for part 73 continues to read as follows:

Authority: 47 U.S.C. 154, 303, 334, 336.

§ 73.202 [Amended]

2. Section 73.202(b), the Table of FM Allotments under Idaho, is amended by removing Channel *280C1 and by adding Channel *247C1 at Weiser.

3. Section 73.202(b), the Table of FM Allotments under Oregon, is amended by removing Channel 261C2 and by adding Channel 295C2 at Arlington; by adding Athena, Channel 264C2; by removing Channel 263A and by adding Channel 261A at Hermiston; by removing Channel 260C1 and by adding Channel 225C1 at La Grande; by adding Monument, Channel 280C1; by adding Prairie City, Channel 260C; and by adding Channel 267C1 at Prineville.

4. Section 73.202(b), the Table of FM Allotments under Washington, is amended by removing Channel 264C3 at Walla Walla.

Federal Communications Commission.
John A. Karousos,
Assistant Chief, Audio Division, Media Bureau.

[FR Doc. 06-8179 Filed 9-26-06; 8:45 am]

BILLING CODE 6712-01-P